DEPARTMENT OF TRANSPORTATION

Federal Transit Administration

National Technical Assistance Center for Senior Transportation: Solicitation for Proposals

AGENCY: Federal Transit Administration (FTA), DOT.

ACTION: Notice; request for proposals.

SUMMARY: This solicitation seeks proposals from national not-for-profit organizations for a cooperative agreement to maintain and continue to implement the National Technical Assistance Center for Senior Transportation (National Senior Center or Center). The National Senior Center was enabled by statute under the Safe, Accountable, Flexible, Efficient Transportation Equity Act: A Legacy For Users (SAFETEA-LU) in July 2005. The major goal of the National Senior Center is to gather best practices from senior transportation programs throughout the Nation and assist local communities, states and other organizations in successfully meeting the transportation needs of seniors including planning for an integrated transportation program. This cooperative agreement is for a five-year award. The first year of the cooperative agreement is for nine-hundred and ninety-eight thousand dollars ($998,000) from funds appropriated in Fiscal Year 2011. Subsequent funding will be based on annual appropriations and future authorization of the program.

This notice describes how to apply and the criteria the interagency review panel will use to evaluate the proposals received.

This announcement is available on the FTA's Web site and on the United We Ride (UWR) Web page at: http://www.unitedweride.gov. FTA will announce the final selection on the UWR Web site and in the Federal Register. A synopsis of this announcement will be posted in the FIND module of the government-wide electronic grants Web site at http://www.Grants.Gov. Proposals must be submitted to FTA, electronically, through the GRANTS.GOV “APPLY” function.

DATES: Complete proposals must be submitted electronically by February 21, 2012. The proposals must be submitted electronically through the GRANTS.GOV Web site. Applicants who have not already done so should initiate the process of registering on the GRANTS.GOV site immediately to ensure completion of registration before the deadline for submission.

ADDRESSES: Proposals must be submitted electronically to http://www.Grants.Gov.

FOR FURTHER INFORMATION CONTACT: For general program information, as well as proposal-specific questions, please send an email to unitedweride@fta.dot.gov or contact Pamela Brown at (202) 493-2503. A TDD is available at 1-(800) 877-8339 (TDD/FIRS).

SUPPLEMENTARY INFORMATION:

Table of Contents

I. Funding Opportunity Description

II. Award Information

III. Eligibility Information

IV. Proposal Submission Information

V. Proposal Review, Selection and Notification

VI. Award Administration

VII. Agency Contacts

Appendix A: Supplemental Form

I. Funding Opportunity Description

A. Authority

The enactment of the Safe, Accountable, Flexible, and Efficient Transportation Equity Act—A Legacy for Users (SAFETEA-LU); Public Law 109-059, authorized a National Technical Assistance Center on Senior Transportation under 49 U.S.C. 5314 (c) as follows:

1. Establishment—The Secretary shall award grants to a national not-for-profit organization for the establishment and maintenance of a national technical assistance center.

2. Eligibility— An organization shall be eligible to receive a grant under paragraph 1 if the organization—

A. Focuses significantly on serving the needs of the elderly;

B. Has demonstrated knowledge and expertise in senior transportation policy and planning issues;

C. Has affiliates in a majority of the states;

D. Has the capacity to convene local groups to consult on operation and development of senior transportation programs; and

E. Has established close working relationships with the Federal Transit Administration and the Administration on Aging (AoA).

3. Use of Funds—The national technical assistance center established under this section shall—

A. Gather best practices from throughout the Nation and provide such practices to local communities that are implementing senior transportation programs;

B. Work with teams from local communities to identify how the communities are successfully meeting the transportation needs of senior citizens and any gaps in services in order to create a plan for an integrated senior transportation program;

C. Provide resources on ways to pay for senior transportation services;

D. Create a web site to publicize and circulate information on senior transportation programs;

E. Establish a clearinghouse for print, video, and audio resources on senior mobility; and

F. Administer the demonstration grant program established under paragraph (4).

4. Grants Authorized—

A. In General—The national technical assistance center established under this section, in consultation with the Federal Transit Administration, shall award senior transportation demonstration grants to—

i. Local transportation organizations;

ii. State agencies;

iii. Units of local government; and

iv. Nonprofit organizations.

B. Use of Funds—Grant funds received under this paragraph may be used to—

i. Evaluate the state of transportation services for senior citizens;

ii. Recognize barriers to mobility that senior citizens encounter in their communities;

iii. Establish partnerships and promote coordination among community stakeholders, including public, not-for-profit, and for-profit providers of transportation services for senior citizens;

iv. Identify future transportation needs of senior citizens within local communities; and

v. Establish strategies to meet the unique needs of healthy and frail senior citizens.

C. Selection of Grantees—The Secretary shall select grantees under this paragraph based on a fair representation of various geographical locations throughout the United States.

B. Background

Older adult mobility and human service transportation is defined as a network of services including but not limited to driving modification and transition; pedestrian access; public transportation; paratransit (curb to curb, door to door, door through door); taxi service; and volunteer services. Mobility also can be achieved through Internet and Social Media connections. Technical assistance is a process that enables a goal-focused, strategy-oriented, accountable organization to transfer knowledge to clients for the purpose of their growth, change, and improvement. Technical assistance is intended to provide extensive information and assistance to facilitate adoption or application of research-based or practice-based products, policies, or knowledge in order to improve the provision of services for target populations. Technical assistance may include information dissemination, training, and enhancing capacity for building more efficient transportation services at the local and state levels. A primary goal of the technical assistance offered by the Center is to facilitate the expansion of transportation services and options for older persons in their local communities. A key strategy to accomplish this expansion of service is coordination of transportation programs and initiatives.

SAFETEA-LU, Public Law 109-059, authorized the National Senior Center under 49 U.S.C. 5314(c). In recognition of the fundamental importance of senior mobility and human service transportation and the continuing need to enhance coordination, Executive Order 13330 (EO) on Human Service Transportation Coordination issued on February 24, 2004, directed multiple Federal departments and agencies to work together to ensure that transportation services are seamless, comprehensive and accessible. Secretaries from the Departments of Transportation, Agriculture, Education, Health and Human Services, Housing and Urban Development, Interior, Labor, and Veterans Affairs, the Commissioner of the Social Security Administration, the Attorney General and the Chairperson of the National Council on Disability comprise the Coordinating Council on Access and Mobility (CCAM).

Specifically, the CCAM is tasked with seeking ways to simplify access to transportation services for persons with disabilities, persons with lower incomes, and older adults. The EO requires that CCAM members work together to provide the most appropriate, cost effective services within existing resources, and reduce duplication to make funds available for more services. To meet the requirements of the EO, the CCAM developed a comprehensive action plan and launched United We Ride (UWR), a national initiative on human service transportation coordination, which includes senior mobility. The National Senior Center is directly linked with UWR and related to technical assistance initiatives in the area of older adult mobility and human service transportation coordination. FTA collaborates with other members of CCAM on the implementation of the EO and therefore, the technical assistance provided under this solicitation will seek to continue to complement and optimize, not duplicate, the technical assistance and related work funded in this area by other CCAM partners.

Under SAFETEA-LU, the Secretary of Transportation was directed to award grants to a national not-for-profit organization for the establishment and maintenance of a national technical assistance center on senior transportation.

In the Fiscal Years since its inception, the National Technical Assistance Center on Senior Transportation has been instrumental in increasing the transportation options for older adults and enhancing their ability to live more independently within their communities throughout the United States. Technical assistance, research toward solutions, strategic communications and building partnerships among stakeholders are additional functions of the Center. The National Senior Center has become the lead organization to develop a comprehensive state-of-the-art technical information system dealing with training and research on the transportation of older persons.

The Center has raised greater awareness, increased educational efforts, built strong coalitions, gained greater collaboration between the aging and the transportation industry, and developed a core set of training materials and products that provide the base level framework necessary to expand transportation options at the community level for older adults.

The Center has hosted numerous webinars and teleconferences, since 2005, which aid in the improvement of public transportation options of an aging population and include such topics as improvements to vehicles, planning, operations, rider information, and outreach; and more targeted, flexible services; and universal design.

The need for mobility assistance to enable independence, especially public transportation services, increases with age and disability level. Many older adults prefer to age in place, despite mobility challenges. The car has made suburban and rural living practical, and contributed to a decline in public transportation and walking (Transportation Research Board, 2004). Mobility will be a significant challenge for this dispersed older population. Therefore, demand for transportation services is expected to skyrocket and the need for immediate attention to infrastructure and service investments for older adults and individuals with disabilities has increased.

Thus, the results of technical assistance are targeted to enhance availability, accessibility, acceptability, affordability and adaptability for older adults. In order to achieve these goals, technical assistance will need to focus around one-stop access systems, streamlining eligibility, enhancing transportation coordination, better understanding of regulations and policies regarding cost-sharing and funding, and using social media to get information out to local consumers.

C. Program Purpose

The purpose of this cooperative agreement is to maintain and continue to implement the National Technical Assistance Center for Senior Transportation (hereafter, the National Senior Center, or the Center). The major goal of the National Senior Center is to gather best practices from throughout the Nation and provide such practices to local communities that are implementing senior transportation programs and to assist local communities, other organizations and states in successfully meeting the transportation needs of seniors and identifying any gaps in services in order to create a plan for an integrated transportation program.

The National Senior Center will follow a number of strategies, especially coordination, empowerment, knowledge management and person-centered technical assistance. The Center will coordinate with other technical assistance initiatives related to senior mobility and human service transportation to ensure a coordinated approach in this area. In addition, all efforts of the Center should ensure consumer input and involvement such that all technical assistance has a person centered, self-determination and independence focus. Center personnel will engage with technical assistance recipients to ensure knowledge is transferred and relationships are developed. This information and referral system is meant to be a key focal point to disseminate models, best practices and develop successful demonstration sites for innovations in older adult transportation services and systems. This project will entail creative, engaging and collaborative public and private partnerships at all levels—local, Tribal, state and Federal.

The following areas will be key areas of focus for the National Senior Center activities:

The Center will conduct an assessment of technical assistance needs in the area of senior mobility and will formulate a plan in coordination with FTA and AoA for conducting technical assistance in future years of funding.

It is expected that technical assistance will include:

• Peer-to-Peer Learning;

• Expertise in Senior Issues;

• Communities of Practice;

• Grantee Specific Assistance, as required;

• Information and Knowledge Transfer;

• Training; and,

• Demonstration Grants.

Tasks

In the performance of this cooperative agreement, the grantee shall accomplish the following tasks:

Task 1—Project Management and Administration

The grantee shall meet with the FTA Project Manager within ten (10) working days after issuance of agreement to discuss the project management and administration of the cooperative agreement. The grantee shall submit a Statement of Work to the FTA Project Manager within six (6) weeks of grant award.

Task 2—Technical Assistance and Training

The National Senior Center will formulate a plan in coordination with FTA, AoA and other Federal partners for identifying technical assistance needs and conducting technical assistance and training at the state and local levels. The grantee will work with local sites to develop individual technical assistance plans that outline specific needs, intended outcomes, plans for assistance, and evaluation components, which shall include, but are not limited to:

a. Integrating a range of services including driving transition, pedestrian environments, fixed route transit, paratransit services, taxi programs, door through door or escort options, voucher models, and volunteer transportation programs into overall technical assistance.

b. Assisting local communities with the development of mobility management strategies and concepts that enhance transportation service options and access for older adults.

c. Assisting states and local communities with identification of intelligent transportation systems and other technologies that enhance transportation services for older adults, including increased access to a community One-Call/One-Click Transportation Resource Centers.

d. Implement training on topics related to older adult transportation, including but not limited to, mobility management techniques and incorporating older adult transportation resources into existing One-Call/One-Click Resource Centers. Training should be considered for transportation providers, human service providers, and consumers.

Task 3—Demonstration Grants

The Center shall award senior transportation demonstration grants to local transportation organizations, state agencies, units of local Government and non-profit organizations in areas related to senior transportation which are intended to solve transportation and mobility needs of the older adult community.

Task 4—Communication and Management Information Activities

The grantee shall work collaboratively with FTA, AoA and other Federal partners to coordinate input, direction and advice to ensure the dissemination of information related to older adult transportation. The grantee shall work collaboratively with the FTA Project Manager and the Steering Committee to identify specific topics.

Task 5—Strategic Development in Partnerships, Community Involvement in Senior Transportation, and Senior Mobility and Human Service Transportation Coordination

The grantee shall provide guidance and direction on establishing coalitions, which can be integrally involved in providing strategic direction for state and community involvement in older adult transportation. This shall include a method to enhance awareness by all stakeholders of funded senior mobility and related human service transportation.

Task 6—Collaboration With FTA and the Federal Coordinating Council on Access and Mobility

The grantee, in coordination with the FTA Project Manager, should provide technical assistance to the CCAM on older adult transportation issues.

II. Award Information

FTA will fund one cooperative agreement for a five year award. Year one of the cooperative agreement is for nine-hundred and ninety-eight thousand dollars ($998,000). The anticipated notification date is the winter of 2011/12, with an anticipated starting date for the successful applicant of March 2012. Subsequent funding will be based on annual appropriations and future authorizations of program continuation. FTA recipients with existing FTA cooperative agreements or grants are eligible to compete for this competitive cooperative agreement.

The FTA will participate in National Senior Center activities by attending review meetings, commenting on technical reports, maintaining frequent contact with the grantee Project Manager and approving key decisions and activities, and redirecting activities, if needed.

FTA will publish the selected organization in the Federal Register and on the UWR Web site.

III. Eligibility Information

FTA is interested in proposals for this cooperative agreement from national not-for-profit organizations with demonstrated capacity in state and community transportation services for older adults to include, but are not limited to, knowledge and/or understanding of information in the following areas:

• Understanding strategies for building a coordinated and integrated senior mobility and human service transportation program;

• Capacity and experience to build coordination and collaboration between the public and private sector;

• Capacity for developing and managing a technical assistance network;

• Capacity and experience for providing effective off-site technical assistance;

• Understanding the implementation of a range of transportation services including: One-call/one-click transportation resource centers; mobility management, older driver, assisted (door to door; hand to hand; escort) services, and other types of transportation services provision; and,

• Capacity and experience for conducting face-to-face and Web-based training.

IV. Proposal Submission Information

A. Proposal Process

Project proposals must be submitted electronically through GRANTS.GOV. Complete proposals for the National Technical Assistance Center for Senior Transportation must be submitted electronically through the GRANTS.GOV Web site no later than February 21, 2012.

Applicants are encouraged to begin the process of registration on the GRANTS.GOV site well in advance of the submission deadline. Registration is a multi-step process, which may take several weeks to complete before a proposal can be submitted. In addition to the mandatory SF-424 Form that applicants must download from GRANTS.GOV, FTA requires applicants to complete the Supplemental FTA Form (Applicant and Proposal Profile, Human Service Transportation Technical Assistance Program). The Supplemental Form provides guidance and a consistent format for applicants to respond to the criteria outlined in this Notice.

Applicants must use this format as stipulated in Appendix A and attach it to their submission in GRANTS.GOV to successfully complete the application process. Within 24-48 hours after submitting an electronic proposal, the applicant should receive an email validation message from GRANTS.GOV. The validation will state whether GRANTS.GOV found any issues with the submitted application. If making a resubmission for any reason, include all original attachments regardless of which attachments were updated. Complete instructions on the proposal process can be found at www.unitedweride.gov.

Important: FTA urges applicants to submit their proposal at least 72 hours prior to the due date to allow time to receive the validation message and to correct any problems that may have caused a rejection notification. Submissions received after February 21, 2012 will not be accepted.

B. Proposal Content

1. Proposal Information included in the Standard Form 424—Application for Federal Assistance

This provides basic sponsor identifying information, including:

a. Applicant's Information;

b. Contact Information for notification of project selection (including contact name, title, address, congressional district, email, fax and phone number);

c. Type of Applicant;

d. Congressional Districts and Funding Information;

This form must be completed in order to be considered for funding.

2. Proposal Content

Every proposal must:

a. Describe concisely, but completely, the project scope to be funded;

b. Address each of the evaluation criteria separately in the format as stipulated in Appendix A, demonstrating how the project responds to each criterion; Please do not exceed the maximum page limit of 90 pages. All pages over the limit will be excluded from consideration.

c. Provide a total budget for the project and provide a basic line-item budget for each task, describing the various key components and estimating their cost; and,

d. Provide an estimated project time-line and major milestones.

V. Proposal Review, Selection and Notification

A. Project Evaluation Criteria

Applicants must identify how the proposal will enhance and/or increase transportation or mobility benefits to older adults.

Projects will be evaluated by an interagency review team based on the proposals submitted according to: 1. Staff qualifications; 2. Existing capacity/readiness; 3. Collaboration; 4. Ability to administer demonstration grants; and 5. Understanding of key issues and ideas for future development.

Each applicant is encouraged to demonstrate the responsiveness of a project to all of the selection criteria with the most relevant information that the applicant can provide, regardless of whether such information has been specifically requested, or identified, in this notice.

The review panel will assess the extent to which a project addresses the following criteria.

1. Staff Qualifications

Staff qualifications include experience in delivering technical assistance and training, knowledge of senior mobility issues, demonstrated process skills in assessment, strategic planning, facilitation, and other key areas associated with identified tasks, including capacity and experience for conducting face-to-face and Web-based training for consumers, human service/aging providers, and transportation agencies. Applicant should also address a plan for knowledge retention.

2. Existing Capacity/Readiness

Existing capacity of the organization includes clearinghouse functions, web development and maintenance, a demonstrated ability to provide technical assistance, training, long distance and on-site intervention strategies, and other identified tasks; including technical assistance by telephone and email, moderated and un-moderated list-serves, web-based seminars, topic-based conference calls, the Internet (including the development of web content).

a. Indicate the timeframe for implementation of the project and obligation of funds. If the timeline for either is expected to take more than 18 months, please indicate the expected timeline and the justification for the longer period of implementation.

b. Please indicate the short-term, mid-range and long-term goals for the project.

3. Collaboration

Applicants must plan to collaborate with the National Senior Center Steering Committee, stakeholders in the public and private sector, and intermediary organizations such as hospital discharge planners, private pay insurance, various social service and transportation system networks to establish effective partnerships to implement tasks. Applicants should also consider and develop partnerships with additional groups beyond those listed above. Established partnerships with employment, disability, or aging groups will increase a proposal's chance of selection.

Applicants must also indicate how partners were involved in the proposal development and how they will participate in its implementation, if applicable.

4. Ability To Administer Demonstration Grants

One purpose of the National Senior Center is to award senior transportation demonstration grants in order to improve transportation for senior populations. The applicant must indicate its experience and capacity to carry out this mandated task and indicate how its organization will administer and manage the implementation of the demonstration grants.

5. Understanding of Key Issues and Ideas for Future Development

Understanding the key issues regarding: older drivers, pedestrian access, fixed routes, paratransit services, assisted (door to door; hand to hand; escort) services, volunteers, taxis, one-call/one-click transportation resource centers and other types of transportation services provisions. Applicants should indicate any ideas for future development of a range of transportation services as well as technical assistance, training, demonstration and other strategies needed to solve senior transportation challenges.

B. Legal Capacity

Applicants must indicate that there are no legal issues which would impact their eligibility and authority to apply for, or prevent acceptance of FTA funds.

C. Submission Dates and Time

All proposals must be submitted electronically via GRANTS.GOV no later than February 21, 2012.

D. Proposal Selection and Notification Process

Proposals will first be screened by FTA staff members and then screened and ranked by an interagency review panel. Final decision and allocation of FTA funds will be made by the FTA Administrator. The anticipated starting date for the successful applicant is March 2012.

VI. Award Administration

A. Award Notices

FTA will announce project selection in a Federal Register Notice and will post the Federal Register Notice on the following Web sites: www.fta.dot.gov and www.unitedweride.gov. Once an application is selected, FTA will award a cooperative agreement through the FTA Transportation Electronic Award Management System (TEAM). There is no pre-award authority for these projects.

B. Administrative and National Policy Requirements

1. Grant Requirements. The successful applicant will apply for a grant through TEAM and adhere to the customary FTA grant requirements of Section 49 U.S.C. 5314(c), Transportation Research Program, including those of C 6100.1D, Technology Development and Deployment, dated 05-01-11, Research, Technical Assistance, and Training Programs: Application Instructions and Program Management Guidelines.

2. Discretionary grants and Research earmarks greater than $500,000 will go through Congressional Notification and Release Process. Technical assistance regarding these requirements is available from each FTA regional office.

3. Standard Assurances. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and that modifications may affect the implementation of the project. The Applicant agrees that the most recent Federal requirements will apply to the project, unless FTA issues a written determination otherwise. The Applicant must submit the Certifications and Assurances before receiving a grant if it does not have current Certifications on file.

C. Reporting

Post-award reporting requirements include submission of Federal Financial Reports and Milestone Reports in TEAM on a quarterly basis for all projects. Documentation is required for payment. In addition, grants which include innovative technologies may be required to report on the performance of these technologies. Additional reporting may be required specific to the National Senior Center and the recipient may be expected to participate in events or peer networks related to the older adult transportation.

VII. Agency Contacts

For general program information, as well as proposal-specific questions, please send an email to unitedweride@fta.dot.gov or contact Pamela Brown, (202) 493-2503. A TDD is available at 1 (800) 877-8339 (TDD/FIRS).

Issued in Washington, DC, this 15th day of December,, 2011.
Peter Rogoff,
Administrator.

Appendix A

Standard Format

Applicant and Proposal Profile

Human Service Transportation Technical Assistance Program

Please respond to the information requests listed below in ninety (90) pages or less—including any attachments to this appendix. Please use Times New Roman, 12 point font, double-spaced for the following items and please number your pages.

Project Title (One (1) page maximum):

Provide a Basic Line-Item Budget for Each Task (Two (2) page maximum): You may attach the budget as a separate item.

Provide an estimated project time-line and major milestones (Two (2) page maximum).

Describe How You Will Administer the Program (Ten (10) page maximum):

All applicants must respond to the following items in order to be considered for funding:

1. Staff Qualifications (Ten (10) page maximum—you may attach up to 5 additional pages of Staff Resumes):

Staff qualifications include experience in delivering technical assistance and training, knowledge of senior mobility issues, demonstrated process skills in assessment, strategic planning, facilitation, and other key areas associated with identified tasks, including capacity and experience for conducting face-to-face and web-based training for consumers, human service/aging providers, and transportation agencies.

Applicant should also address a plan for knowledge retention.

2. Existing Capacity/Readiness To Conduct Technical Assistance & Training (Fifteen (15) page maximum):

Existing capacity of the organization includes clearinghouse functions, web development and maintenance, demonstrated ability to provide technical assistance, training, long distance and on-site intervention strategies, and other identified tasks; including technical assistance by telephone and email, moderated and un-moderated list-serves, web-based seminars, topic-based conference calls, the Internet (including the development of web content).

a. Indicate the timeframe for obligation of funds and implementation of the project. If the timeline is more than 18 months, please provide the justification for the longer period of implementation.

b. Please indicate the short-term, mid-range and long-term goals for the project.

3. Collaboration (Ten (10) page maximum):

Applicants must plan to collaborate with the National Senior Center Steering Committee, stakeholders in the public and private sector, and intermediary organizations such as hospital discharge planners, private pay insurance, various social service and transportation system networks to establish effective partnerships to implement tasks.

Applicants should also consider and develop partnerships with additional groups beyond those listed above. Established partnerships with employment, disability, or aging groups will increase a proposal's chance of selection.

Applicants must also indicate how partners were involved in the proposal development and how they will participate in its implementation, if applicable.

4. Ability To Administer Demonstration Grants (Fifteen (15) page maximum):

One purpose of the National Senior Center is to award senior transportation demonstration grants in order to improve transportation for senior populations. The applicant must indicate its experience and capacity to carry out this mandated task and indicate how its organization will administer and manage the implementation of the demonstration grants.

5. Understanding of Key Issues and Ideas For Future Development (Fifteen (15) page maximum):

Understanding the key issues regarding: older drivers, pedestrian access, fixed routes, paratransit services, assisted (door to door; hand to hand; escort) services, volunteers, taxis, one-call/one-click transportation resource centers and other types of transportation services provisions. Applicants should indicate any ideas for future development of a range of transportation services.

6. Legal Capacity. (One (1) page maximum):

Applicants must indicate that there are no legal issues which would impact their eligibility and authority to apply for, or prevent acceptance of FTA funds.

[FR Doc. 2011-32546 Filed 12-19-11; 8:45 am]

BILLING CODE P